DEPARTMENT OF THE INTERIOR

Bureau of Indian Affairs

Submission of Information Collection to the Office of Management and Budget for Review Under the Paperwork Reduction Act

AGENCY: Bureau of Indian Affairs, Interior.

ACTION: Notice.

SUMMARY: In compliance with the Paperwork Reduction Act of 1995, the Bureau of Indian Affairs, Office of Indian Education Programs is submitting to the Office of Management and Budget an information collection request which requires renewal. The information collection, Data Elements for Student Enrollment in Bureau-funded Schools, is cleared under OMB Control Number 1076-0122 through June 30, 2002.

DATES: Comments must be received on or before July 26, 2002.

ADDRESSES: Send comments or suggestions directly to the Office of Management and Budget, Office of Regulatory Affairs, Attention: Desk Officer for the Department of the Interior, 725 17th Street NW, Washington, DC 20503.

Send a copy of your comments to William Mehojah, Director, Office of Indian Education Programs, Bureau of Indian Affairs, 1849 C Street, NW., Mail Stop 3512-MIB, Washington, DC 20240. Facsimile is 202-208-3312.

FOR FURTHER INFORMATION CONTACT: Glenn Allison, 202-208-3628 (This is not a toll-free number). Copies of this information collection document will be sent to you, free of charge, when you call and request them.

SUPPLEMENTARY INFORMATION: The Secretary of the Interior, through the Bureau of Indian Affairs, is required to provide educational services to federally recognized Indians and Alaska Natives. Beginning with the Snyder Act and continuing with Public Laws 93-638, 95-561, 100-297, 103-382, and 107-110, Congress has passed legislation to ensure Indians receive educational opportunities.

I. Abstract

This collection is used to determine a Native American and Alaska Native individual's educational and/or residential service eligibility for enrollment in Bureau-funded schools. The data elements for enrollment information collection is for attendance in elementary and secondary schools operated and funded by the Bureau of Indian Affairs and to address the criteria for attendance that was changed by the passage of Public Law 99-228. This act allows for the tuition free attendance for any Indian student who is a member of a federally recognized tribe or is ¼ degree blood quantum descendant of a member of such tribes, as well as for dependents of Bureau, Indian Health Service, or tribal government employees who live on or near the school site.

On February 7, 2002, a notice of emergency clearance and request for comments to begin the renewal process was published in the Federal Register (67 FR 5847), regarding the information collection entitled Data Elements for Student Enrollment in Bureau-funded Schools. The comment period closed on April 8, 2002. The Bureau of Indian Affairs, Office of Indian Education Programs will now process the information collection as a regular clearance request, taking into consideration all comments received. Six verbal and four written comments were received. A number of individuals verbally requested clarification of the Federal Register notice, but did not submit a comment.

Comment: All comments received addressed item 18 Physical Exam. One individual favored and all others opposed this item as a requirement for ISEP funding. The one individual who favored this item stated a physical exam is a State accreditation requirement and should be required by all Bureau-funded schools. All other individuals stated physical exams will create a severe and unrealistic burden on families, students, schools, and the Indian Health Service, specifically during the ISEP student count time period, resulting in the non-certification of a significant number of eligible students for ISEP funding due to no physical exam documentation. All individuals stated their school does require physical exams for students participating in athletic activities.

Response: The Bureau recognizes a significant number of Bureau-funded schools are located on or near federal Indian reservations serving Indian communities who rely on the Indian Health Service for medical purposes, including physical exams. Because of the number of individuals who commented that requiring physical exams for ISEP funding would create a difficult burden on families, schools, and the Indian Health Service, the Bureau will delete this as a required/mandatory core element. However, if a Bureau-funded school's accreditation agency requires physical exams for all students, the Bureau-funded school must adhere to the accreditation agency. In these instances, the Bureau-funded school will work with their Education Line Officer to establish a time line to accomplish this activity so as not to jeopardize ISEP funding.

Comment: Several individuals commented on item 17, Immunization Records, and all favored this item. Two individuals expressed a concern of how and who would be responsible for maintaining student health records: The school registrar, nurse, health coordinator, or public health nurse.

Response: The Bureau will maintain Immunization Records as a required/mandatory core element for ISEP funding. The issue of whom will maintain a student's immunization record will be left to the discretion of the school board and/or chief school administrator.

Comment: Several individuals commented on item 2, Type of School (Day/Boarding/Dormitory). All comments favored this item. One individual requested that the school's funding identification of Grant, Contract, or Bureau-operated be added. One individual inquired whether the type of school should appear on their letterhead.

Response: The Bureau will maintain Type of School as a required/mandatory core element. The issue of whether the school is grant, contract, or bureau-operated does not need to be on the school enrollment application form, nor on its letterhead.

Comment: Three individuals commented on item 10, Student's Bureau of Indian Affairs Home Agency. The three individuals questioned the need for this item and whether it was redundant with item 16, Out of Boundary Waiver, and item 11, Home Address. The three individuals stated a majority of their students are from their school's established attendance area and therefore they do not see a need for item 10.

Response: The Bureau will maintain Student's Bureau of Indian Affairs Home Agency as a required/mandatory core element. Although the Bureau recognizes a majority of eligible students enrolled in day schools are from that school's home BIA agency, a significant number of boarding schools and peripheral dormitories do enroll students from outside their BIA agency and/or established attendance area. It is very critical boarding schools and peripheral dormitories have this core element on file, primarily for medical and/or emergency purposes and appropriate follow-up with governmental entities/agencies for students placed in a residential setting. Additionally, a number of tribal governing bodies have passed resolutions waiving, eliminating, and/or establishing an open attendance area for all or selected Bureau-funded schools on their reservation. In these instances, this core element will assist schools in identifying where the student resides. The Bureau does not believe a student's BIA home agency is redundant with the out of boundary and home address core elements. In many cases a student's BIA home agency and home address are different. The collection of the three core elements is for separate purposes, but may support one another.

Comment: Several individuals commented on items 12, Telephone for Contact in an Emergency, and 13, Signatures b, c, and d. The individuals combined the two items into their comment. Two individuals stated Indian Health Service has an emergency/medical consent form which they are using and prefer. Item 12 was seen as a duplication to the Indian Health Service form. Both individuals requested the Bureau to use the Indian Health Service form as a required supplemental documentation. One individual stated the difficulty of obtaining a school supervisor's signature and recommended only the Education Line Officer's signature be required and obtained during ISEP student count certification.

Response: The Bureau will maintain Telephone for Contact in an Emergency and Signatures as required/mandatory core elements. Not all Bureau-funded schools use the Indian Health Service form and there is a definite need for schools to contact a designated individual for an emergency purpose. The Bureau firmly believes the school supervisor, as the local instructional leader, must render a decision accepting or declining a student's enrollment application form. An Education Line Officer's signature for release and acceptance will continue to be required on all Off Reservation Boarding School (ORBS) enrollment application forms.

Comment: Two individuals commented on item 16, Out of Boundary Waiver. One individual stated this item be deleted due to his school's established attendance area being reservation-wide. One individual stated this is a difficult annual issue which her tribe needs to appropriately address.

Response: The Bureau will maintain the Out of Boundary Waiver as a required/mandatory core element. Congress mandated all Bureau-funded schools establish attendance areas for effective instructional and financial planning purposes. The Bureau recognizes situations will occur requiring a student's enrollment in a school other than the student's established attendance area. The out of boundary waiver process addresses these unique situations. For ISEP funding purposes, the Bureau must have assurances the required documentation and approvals for students enrolled in Bureau-funded schools outside their established attendance area have been obtained and on file. For on-reservation schools, the out of boundary matter is the responsibility of the tribal governing body or its designee through an appropriate resolution. For off-reservation boarding schools, the out of boundary matter is the responsibility of the respective releasing and accepting Education Line Officers through their approval or denial signatures. On-reservation schools that have an approved reservation-wide attendance area are not required to have this core element on file.

Comment: One individual stated her tribal school system currently maintains two separate enrollment applications, one for day schools and one for a dormitory.

Response: The Bureau acknowledges this situation and will assist the tribe in determining whether one enrollment application form can address both instructional and residential purposes. The current practice of retrieving two enrollment application forms appears to be redundant, but does not jeopardize ISEP funding, providing the core elements are addressed appropriately.

Comment: One individual inquired what is ORBS?

Response: We will identify ORBS as Off-Reservation Boarding School.

II. Request for Comments

The Office of Management and Budget has up to 60 days to either renew or deny renewal of this application. However, a decision may be made after 30 days; therefore, your comments have a better chance of consideration the closer they are sent to the beginning of the comment period.

We specifically request your comments on the following:

(1) Whether the collection of information is necessary for the proper performance of the functions of the BIA, including whether the information will have practical utility;

(2) The accuracy of the BIA's estimate of the burden of the information collection, including the validity of the methodology and assumptions used;

(3) The quality, utility and clarity of the information to be collected; and,

(4) How to minimize the burden of the information collection on those who are to respond, including the use of appropriate automated electronic, mechanical or other forms of information technology.

Please note that an agency may not conduct or sponsor, and a person is not required to respond, to a collection of information unless it displays a currently valid OMB control number. All comments received from the 60-day Federal Register notice and copies of those submitted during this 30-day notice period will be available for public inspection at 1849 C Street NW., Room 3512 of the Main Interior Building, during the hours of 8 a.m. to 4 p.m. except weekends and Federal holidays. If you wish your name and address withheld from the public view, you must state so prominently at the beginning of your comments. We will honor your request to the extent of law.

III. Data

Title: Data Elements for Bureau-funded Schools, 25 CFR 39.

OMB Control Number: 1076-0122.

Affected Entities: Bureau-funded schools, students, tribes who operate under Federal funding.

Frequency of Response: Annually.

Estimated Number of Biennial Responses: 48,000.

Estimated Time per Response: 15 minutes.

Estimated Total Annual Burden Hours: 12,000 hours.

Dated: May 24, 2002.
Neal A. McCaleb,
Assistant Secretary—Indian Affairs.

[FR Doc. 02-16058 Filed 6-25-02; 8:45 am]

BILLING CODE 4310-6W-P